ENVIRONMENTAL PROTECTION AGENCY

[EPA-HQ-OPP-2013-0049; FRL-9913-53]

Product Cancellation Order for Certain Rodenticide Registrations

AGENCY: Environmental Protection Agency (EPA).

ACTION: Notice.

SUMMARY: This notice announces EPA's order for the cancellations, voluntarily requested by the registrant and accepted by the Agency, of certain rodenticide products containing the pesticide active ingredients brodifacoum, difethialone and warfarin, pursuant to section 6(f) of the Federal Insecticide, Fungicide, and Rodenticide Act (FIFRA). These cancellations are effective January 1, 2015. This cancellation order follows a June 18, 2014, Federal Register Notice of Receipt of a Request from the registrant to voluntarily cancel these product registrations. These are not the last products containing these pesticide active ingredients registered for use in the United States. In the June 18, 2014, Notice, EPA indicated that it would issue an order cancelling these products unless the Agency received substantive comments within the 30-day comment period that would merit its further review of these requests. The Agency did not receive any comments on the notice. Further, the registrant has not withdrawn its request. Accordingly, EPA hereby issues in this notice a cancellation order granting the requested cancellations effective January 1, 2015. Any distribution, sale, or use of products cancelled by this order is permitted only in accordance with the provisions of this order concerning existing stocks of the cancelled products.

DATES: The cancellations are effective January 1, 2015.

FOR FURTHER INFORMATION CONTACT: Rusty Wasem, Pesticide Re-Evaluation Division (7508P), Office of Pesticide Programs, Environmental Protection Agency, 1200 Pennsylvania Ave. NW., Washington, DC 20460-0001; telephone number: (703) 305-6979; email address: wasem.russell@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2013-0049, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by the registrant, of products registered under FIFRA section 3. These registrations are listed in sequence by registration number in Tables 1, 2, and 3 of this unit.

Table 1—Warfarin Product Cancellations
EPA Registration No. | Product name
3282-3 | d-CON Concentrate Kills Rats & Mice.
3282-4 | d-CON Ready Mixed Kills Rats & Mice.
3282-9 | d-CON Mouse Prufe Kills Mice.
3282-15 | d-CON Pellets Kills Rats & Mice.

Table 2—Brodifacoum Product Cancellations
EPA Registration No. | Product name
3282-65 | d-CON Mouse Prufe II.
3282-66 | d-CON Pellets Generation II.
3282-74 | d-CON Bait Pellets II.
3282-81 | d-CON Ready Mixed Generation II.

Table 3—Difethialone Product Cancellations
EPA Registration No. | Product name
3282-85 | d-CON Mouse-Prufe III.
3282-86 | d-CON Bait Pellets III.
3282-87 | d-CON Ready Mix Baitbits III.
3282-88 | d-CON Bait Packs III.

Table 4 of this unit includes the name and address of record for the registrant of the products in Tables 1, 2, and 3 of this unit.

Table 4—Registrant of Cancelled Products
EPA Company No. | Company name and address
3282 | Reckitt Benckiser, LLC, 399 Interpace Parkway, Parsippany, New Jersey 07054.

III. Summary of Public Comments Received and Agency Response to Comments

During the public comment period provided, EPA received no comments in response to the June 18, 2014, Federal Register notice announcing the Agency's receipt of the requests for voluntary cancellations of products listed in Tables 1, 2 and 3.

IV. Cancellation Order

Pursuant to FIFRA section 6(f), EPA hereby approves the requested cancellations of the brodifacoum, difethialone, and warfarin registrations identified in Tables 1, 2, and 3 of Unit II. Accordingly, the Agency orders that the product registrations identified in Tables 1, 2, and 3 of Unit II. are cancelled effective January 1, 2015. Any distribution, sale, or use of existing stocks of the products identified in Tables 1, 2, and 3 of Unit II. in a manner inconsistent with any of the Provisions for Disposition of Existing Stocks set forth in Unit VI. is a violation of FIFRA.

V. What is the Agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the Administrator may approve such a request.

VI. Provisions for Disposition of Existing Stocks

Existing stocks are those stocks of cancelled pesticide products that are in the United States and that were appropriately packaged, labeled, and released for shipment prior to the effective date of cancellation of the underlying registration. This cancellation order includes the following provisions regarding existing stocks of the registrations identified in Tables 1, 2, and 3:

1. Reckitt Benckiser is permitted to sell and distribute existing stocks to its existing customers until March 31, 2015. During this time period, Reckitt Benckiser is also permitted to ship product for the purpose of returning material back to Reckitt Benckiser or for the purpose of disposal.

2. Reckitt Benckiser is permitted to sell and distribute existing stocks after March 31, 2015, only for the limited purposes of returning material back to Reckitt Benckiser or for disposal.

3. The sale and distribution of existing stocks by persons other than Reckitt Benckiser (e.g., distributors, retailers) is permitted until such stocks are exhausted.

4. Users are permitted to use existing stocks until such stocks are exhausted, provided that such use is consistent with the terms of the previously approved labeling on, or that accompanied, the cancelled product.

List of Subjects

Environmental protection, Pesticides and pests.

Dated: July 24, 2014.
Richard P. Keigwin, Jr.,
Director, Pesticide Re-evaluation Division, Office of Pesticide Programs.

[FR Doc. 2014-18361 Filed 8-5-14; 8:45 am]

BILLING CODE 6560-50-P